DEPARTMENT OF ENERGY

Federal Energy Regulatory Commission

[Docket No. CP04-369-000]

ANR Pipeline Company; Notice of Request Under Blanket Authorization

July 9, 2004.

Take notice that on July 1, 2004, ANR Pipeline Company (ANR), filed in Docket No. CP04-369-000 an application pursuant to ANR's blanket authority granted on September 30, 1982, in Docket No. CP82-480-000 for authorization to construct and operate a delivery point to serve an end-user, located in Rock County, Wisconsin, as more fully set forth in the request which is on file with the Commission and open to public inspection.

ANR proposes to construct, own and operate facilities necessary to deliver natural gas to serve Frito-Lay Inc.'s (Frito-Lay) plant in Beloit, Rock County, Wisconsin. ANR proposes to install a 4-inch hot tap on its 8-inch Line 2-210, which will serve as a bypass of the Wisconsin Power and Light Company, the local distribution company currently providing natural gas service to Frito-Lay. ANR states that the proposed facilities will not have an impact upon ANR's peak day deliveries, and that it has sufficient capacity to render the proposed transportation service without detriment to its existing customers. In addition, ANR states that it will install the electronic gas measurement and communications on Frito-Lay's plant property located adjacent to ANR's existing pipeline right-of-way.

Any questions regarding this application should be directed to Jacques A. Hodges, Attorney, 9 E. Greenway Plaza, Houston, Texas 77046, at (832) 676-5509 or Thomas G. Joyce, Certificates Manager, at (832) 676-3299.

This filing is available for review at the Commission in the Public Reference Room or may be viewed on the Commission's Web site at http://www.ferc.gov using the “e-Library” link. Enter the docket number excluding the last three digits in the docket number field to access the document. For assistance, contact FERC Online Support at FERCOnlineSupport@ferc.gov or call toll-free, (866) 208-3676, or for TTY, (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 855.214) a motion to intervene or notice of intervention and pursuant to section 157.205 of the Regulations under the Natural Gas Act (18 CFR 157.205) a protest to the request. If no protest is filed within the time allowed, therefore, the proposed activity shall be deemed to be authorized effective the day after the time allowed for filing a protest. If a protest is filed and not withdrawn within 30 days after the time allowed for filing a protest, the instant request shall be treated as an application for authorization pursuant to section 7 of the Natural Gas Act.

Magalie R. Salas,
Secretary.

[FR Doc. E4-1587 Filed 7-14-04; 8:45 am]

BILLING CODE 6717-01-P